DEPARTMENT OF HEALTH AND HUMAN SERVICES

Meeting of the Presidential Advisory Council on Combating Antibiotic-Resistant Bacteria

AGENCY: Office of the Assistant Secretary for Health, Office of the Secretary, Department of Health and Human Services.

ACTION: Notice.

SUMMARY: As stipulated by the Federal Advisory Committee Act, the Department of Health and Human Services (HHS) is hereby giving notice that a meeting is scheduled to be held for the Presidential Advisory Council on Combating Antibiotic-Resistant Bacteria (PACCARB). The meeting will be open to the public via WebEx and teleconference; a pre-registered public comment session will be held during the meeting. Pre-registration is required for members of the public who wish to attend the meeting via WebEx/teleconference. Individuals who wish to send in their written public comment should send an email to CARB@hhs.gov. Registration information is available on the website http://www.hhs.gov/paccarb and must be completed by June 25, 2021. Additional information about registering for the meeting and providing public comment can be obtained at http://www.hhs.gov/paccarb on the Meetings page.

DATES: The meeting is scheduled to be held on June 29, 2021, from 10:00 a.m. to 3:00 p.m. and June 30, 2021, from 10:00 a.m. to 3:00 p.m. ET (times are tentative and subject to change). The confirmed times and agenda items for the meeting will be posted on the website for the PACCARB at http://www.hhs.gov/paccarb when this information becomes available. Pre-registration for attending the meeting is strongly suggested and should be completed no later than June 25, 2021.

ADDRESSES: Instructions regarding attending this meeting virtually will be posted one week prior to the meeting at: http://www.hhs.gov/paccarb.

FOR FURTHER INFORMATION CONTACT: Jomana Musmar, M.S., Ph.D., Designated Federal Officer, Presidential Advisory Council on Combating Antibiotic-Resistant Bacteria, Office of the Assistant Secretary for Health, U.S. Department of Health and Human Services, Room L616, Switzer Building, 330 C. St. SW, Washington, DC 20024. Phone: 202-746-1512; Email: CARB@hhs.gov.

SUPPLEMENTARY INFORMATION: The Presidential Advisory Council on Combating Antibiotic-Resistant Bacteria (PACCARB), established by Executive Order 13676, is continued by Section 505 of Public Law 116-22, the Pandemic and All-Hazards Preparedness and Advancing Innovation Act of 2019 (PAHPAIA). Activities and duties of the Advisory Council are governed by the provisions of the Federal Advisory Committee Act (FACA), Public Law 92-463, as amended (5 U.S.C. App.), which sets forth standards for the formation and use of federal advisory committees.

The PACCARB shall advise and provide information and recommendations to the Secretary regarding programs and policies intended to reduce or combat antibiotic-resistant bacteria that may present a public health threat and improve capabilities to prevent, diagnose, mitigate, or treat such resistance. The PACCARB shall function solely for advisory purposes.

Such advice, information, and recommendations may be related to improving: The effectiveness of antibiotics; research and advanced research on, and the development of, improved and innovative methods for combating or reducing antibiotic resistance, including new treatments, rapid point-of-care diagnostics, alternatives to antibiotics, including alternatives to animal antibiotics, and antimicrobial stewardship activities; surveillance of antibiotic-resistant bacterial infections, including publicly available and up-to-date information on resistance to antibiotics; education for health care providers and the public with respect to up-to-date information on antibiotic resistance and ways to reduce or combat such resistance to antibiotics related to humans and animals; methods to prevent or reduce the transmission of antibiotic-resistant bacterial infections; including stewardship programs; and coordination with respect to international efforts in order to inform and advance the United States capabilities to combat antibiotic resistance.

The June 29-30, 2021, public meeting will be dedicated to the council's deliberation and vote on two reports to transmit to the Secretary of Health and Human Services, the first from the Disparities in Antibiotics Access and Use Working Group, and the second from the Working Group on Antimicrobial Resistance (AMR) in Inter-Professional Education. The remainder of the two-day public meeting will include an update on the status of the antibiotic development pipeline and an open council discussion on provocative questions in AMR (no recommendations will be made), in addition to presentations from subject matter experts on Operationalizing One Health and the Environmental Dimensions of AMR. The meeting agenda will be posted on the PACCARB website at http://www.hhs.gov/paccarb when it has been finalized. All agenda items are tentative and subject to change.

Instructions regarding attending this meeting virtually will be posted one week prior to the meeting at: http://www.hhs.gov/paccarb.

Members of the public will have the opportunity to provide comments live during the meeting via conference line by pre-registering online at http://www.hhs.gov/paccarb. There will be two separate sessions available for public comment: An Innovation Spotlight will be held on June 29th where companies and/or organizations involved in combating antibiotic resistance have an opportunity to present their work to members of the Advisory Council; and on June 30th, where all members of the general public are welcome to provide oral comment during this separate session. Pre-registration is required for participation in these sessions with limited spots available. Further information about these two sessions can be found online at http://www.hhs.gov/paccarb. Written public comments can also be emailed to CARB@hhs.gov by midnight June 25, 2021 and should be limited to no more than one page. All public comments received prior to June 25, 2021, will be provided to Advisory Council members.

Dated: April 30, 2021.
Jomana F. Musmar,
Designated Federal Officer, Presidential Advisory Council on Combating Antibiotic-Resistant Bacteria, Office of the Assistant Secretary for Health.

[FR Doc. 2021-10014 Filed 5-11-21; 8:45 am]

BILLING CODE 4150-44-P